FEDERAL COMMUNICATIONS COMMISSION

47 CFR Part 73

[DA 01-1238; MM Docket No. 00-228; RM-9991]

Radio Broadcasting Services; Linden, White Oak, Lufkin, Corrigan, Mount Enterprise and Pineland, TX and Zwolle, LA

AGENCY: Federal Communications Commission.

ACTION: Final rule.

SUMMARY: This document reallots Channel 257C2 from Linden, Texas, to White Oak, Texas, and modifies the authorization for Station KIXK to specify operation on Channel 257C2 at White Oak in response to a petition filed by Reynolds Radio, Inc., previously OARA, Inc. See 65 FR 75222, December 1, 2000. The coordinates for Channel 257C2 at White Oak are 32-30-32 and 94-50-41. To accommodate the allotment at White Oak we shall make the following changes: substitute Channel 261C2 for Channel 257C2 at Lufkin, Texas and modify the license for Station KUEZ accordingly at coordinates 31-24-28 and 94-45-53; substitute Channel 257A for vacant Channel 261A at Corrigan, Texas at coordinates 30-59-47 and 94-49-36; reallot Channel 260A from Mount Enterprise, Texas to Zwolle, Louisiana and modify the authorization for Station KGRI to specify operation on Channel 260A at Zwolle, Louisiana, at coordinates 31-37-53 and 93-38-38; and allot Channel 256A at Pineland, Texas, as a first local service at coordinates 31-08-48 and 93-56-53.

DATES: Effective July 3, 2001.

FOR FURTHER INFORMATION CONTACT: Kathleen Scheuerle, Mass Media Bureau, (202) 418-2180.

SUPPLEMENTARY INFORMATION: This is a summary of the Commission's Report and Order, MM Docket No. 00-228, adopted May 9, 2001, and released May 18, 2001. The full text of this Commission decision is available for inspection and copying during normal business hours in the Commission's Reference Center, 445 12th Street, SW, Washington, DC. The complete text of this decision may also be purchased from the Commission's copy contractors, International Transcription Services, Inc., 1231 20th Street, NW., Washington, DC. 20036, (202) 857-3800, facsimile (202) 857-3805.

List of Subjects in 47 CFR Part 73

Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Texas, is amended by removing Linden, Channel 257C2 and adding White Oak, Channel 257C2, removing Channel 257C2 and adding Channel 261C2 at Lufkin, by removing Channel 261A and adding Channel 257A at Corrigan, by removing Mount Enterprise, Channel 260A and by adding Pineland, Channel 256A.

3. Section 73.202(b), the Table of FM Allotments under Louisiana, is amended by adding Zwolle, Channel 260A.

Federal Communications Commission.
John A. Karousos,
Chief, Allocations Branch, Policy and Rules Division, Mass Media Bureau.

[FR Doc. 01-14018 Filed 6-4-01; 8:45 am]

BILLING CODE 6712-01-P